FEDERAL HOUSING FINANCE BOARD

[No. 2005-N-04]

Proposed Collection; Comment Request

AGENCY: Federal Housing Finance Board.

ACTION: Notice.

SUMMARY: In accordance with the requirements of the Paperwork Reduction Act of 1995, the Federal Housing Finance Board (Finance Board) is seeking public comments concerning the information collection known as “Advances to Housing Associates,” which has been assigned control number 3069-0005 by the Office of Management and Budget (OMB). The Finance Board intends to submit the information collection to OMB for review and approval of a 3 year extension of the control number, which is due to expire on November 30, 2005.

DATES: Interested persons may submit comments on or before September 30, 2005.

Comments: Submit comments by any of the following methods:

E-mail: comments@fhfb.gov.

Fax: 202-408-2580.

Mail/Hand Delivery: Federal Housing Finance Board, 1625 Eye Street, NW., Washington, PC 20006, ATTENTION: Public Comments.

Federal eRulemaking Portal: http://www.regulations.gov. Follow the instructions for submitting comments. If you submit your comment to the Federal eRulemaking Portal, please also send it by e-mail to the Finance Board at comments@fhfb.gov to ensure timely receipt by the agency.

Include the following information in the subject line of your submission: Federal Housing Finance Board. Proposed Collection; Comment Request: Advances to Housing Associates. 2005-N-04.

We will post all public comments we receive on this notice without change, including any personal information you provide, such as your name and address, on the Finance Board Web site at http://www.fhfb.gov/pressroom/pressroom_regs.htm.

FOR FURTHER INFORMATION CONTACT: Jonathan F. Curtis, Examinations Specialist, Office of Supervision, by telephone at 202-408-2866, by electronic mail at curtisj@fhfb.gov, or by regular mail at the Federal Housing Finance Board, 1625 Eye Street, NW., Washington, DC 20006.

SUPPLEMENTARY INFORMATION:

A. Need for and Use of the Information Collection

Section 10b of the Federal Home Loan Bank Act (Bank Act) (12 U.S.C. 1430b) authorizes the Federal Home Loan Banks (FHLBanks) to make advances under certain circumstances to certified nonmember mortgagees. The Finance Board refers to nonmember mortgagees as housing associates. In order to be certified as a housing associate, an applicant must meet the eligibility requirements set forth in section 10b of the Bank Act. Part 926 of the Finance Board regulations (12 CFR part 926) implements the statutory eligibility requirements and establishes uniform review criteria an applicant must meet in order to be certified as a housing associate by an FHLBank. More specifically, sections 926.3 and 926.4 (12 CFR 926.3-926.4) implement the statutory eligibility requirements and provide guidance to an applicant on how it may satisfy such requirements. Section 926.5 (12 CFR 926.5) authorizes the FHLBanks to approve or deny all applications for certification as a housing associate, subject to the statutory and regulatory requirements. Section 926.6 (12 CFR 926.6) permits an applicant to appeal an FHLBank decision to deny certification to the Finance Board.

Section 950.17 of the Finance Board regulations (12 CFR 950.17) establishes the terms and conditions under which an FHLBank may make advances to a certified housing associate. Section 950.17 also imposes a continuing obligation on a housing associate to provide information necessary to determine if it remains in compliance with applicable statutory and regulatory requirements.

The information collection contained in sections 926.1 through 926.6 and section 950.17 of the Finance Board regulations (12 CFR 926.1-926.6 and 950.17) is necessary to enable the FHLBanks to determine whether an applicant satisfies the statutory and regulatory requirements to be certified initially and maintain its status as a housing associate eligible to receive FHLBank advances. The Finance Board requires and uses the information collection to determine whether to uphold or overrule an FHLBank decision to deny housing associate certification to an applicant.

The OMB control number for the information collection, which expires on November 30, 2005, is 3069-0005. The likely respondents include applicants for housing associate certification and current housing associates.

B. Burden Estimate

The Finance Board estimates the total annual average number of applicants at one, with one response per applicant. The estimate for the average hours per application is 10 hours. The estimate for the annual hour burden for applicants is 10 hours (1 applicant × 1 response per applicant × 10 hours).

The Finance Board estimates the total annual average number of maintenance respondents, that is, certified housing associates, at 63, with 1 response per housing associate. The estimate for the average hours per maintenance response is 0.5 hours. The estimate for the annual hour burden for certified housing associates is 31.5 hours (63 certified housing associates × 1 response per associate × 0.5 hours).

The estimate for the total annual hour burden is 41.5 hours (63 housing associates × 1 response per associate × 0.5 hours + 1 applicant × 1 response per applicant × 10 hours).

C. Comment Request

The Finance Board requests written comments on the following: (1) Whether the collection of information is necessary for the proper performance of Finance Board functions, including whether the information has practical utility; (2) the accuracy of the Finance Board estimates of the burdens of the collection of information; (3) ways to enhance the quality, utility and clarity of the information collected; and (4) ways to minimize the burden of the collection of information on applicants and housing associates, including through the use of automated collection techniques or other forms of information technology.

Date: July 21, 2005.
By the Federal Housing Finance Board.
John P. Kennedy,
General Counsel.

[FR Doc. 05-15111 Filed 7-29-05; 12:45 pm]

BILLING CODE 6725-01-U